DEPARTMENT OF AGRICULTURE

Animal and Plant Health Inspection Service

[Docket No. 00-048-1]

National Poultry Improvement Plan; General Conference Committee Meeting and Biennial Conference

AGENCY: Animal and Plant Health Inspection Service, USDA.

ACTION: Notice of meeting.

SUMMARY: We are giving notice of a meeting of the General Conference Committee of the National Poultry Improvement Plan and of the Biennial Conference.

DATES: The General Conference Committee will meet on June 29, 2000, from 8:30 a.m. to 5 p.m. The Biennial Conference will meet on June 30, 2000, from 8 a.m. to 5 p.m. and on July 1, 2000, from 8 a.m. to noon.

ADDRESSES: The meeting will be held at the Doubletree Hotel, 1775 East Cheyenne Mountain Boulevard, Colorado Springs, CO.

FOR FURTHER INFORMATION CONTACT: Mr. Andrew R. Rhorer, Senior Coordinator, National Poultry Improvement Plan, VS, APHIS, 1498 Klondike Road, Suite 200, Conyers, GA 30094-1231; (770) 922-3496.

SUPPLEMENTARY INFORMATION: The General Conference Committee (the Committee) of the National Poultry Improvement Plan (NPIP), representing cooperating State agencies and poultry industry members, serves an essential function by acting as liaison between the poultry industry and the Department in matters pertaining to poultry health. In addition, this Committee assists the Department in planning, organizing, and conducting the NPIP Biennial Conference.

Topics for discussion at the upcoming meetings include:

1. Establishment of “U.S. Salmonella Enteritidis Clean State” classifications for egg-and meat-type chickens.

2. Establishment of a “U.S. Salmonella Enteritidis Monitored” program for commercial table egg pullets.

3. Good management practices for the control of Salmonella and Mycoplasma infections in poultry.

4. Review of the laboratory protocol for the isolation and identification of Salmonella.

5. Review of the approval system for authorized laboratories of the NPIP.

The meetings will be open to the public. The sessions held on June 30 and July 1, 2000, will include delegates to the NPIP Biennial Conference, representing State officials and poultry industry personnel from the 48 cooperating States. However, due to time constraints, the public will not be allowed to participate in the discussions during either of the meetings. Written statements on meeting topics may be filed with the Committee before or after the meetings by sending them to the person listed under FOR FURTHER INFORMATION CONTACT: Written statements may also be filed at the meetings. Please refer to Docket No. 00-048-1 when submitting your statements.

This notice of meeting is given pursuant to section 10 of the Federal Advisory Committee Act.

Done in Washington, DC, this 7th day of June 2000.
Craig A. Reed,
Administrator, Animal and Plant Health Inspection Service.

[FR Doc. 00-14780 Filed 6-9-00; 8:45 am]

BILLING CODE 3410-34-U